ELECTION ASSISTANCE COMMISSION

Publication of State Plan Pursuant to the Help America Vote Act

AGENCY: U.S. Election Assistance Commission (EAC).

ACTION: Notice.

SUMMARY: Pursuant to sections 254(a)(11)(A) and 255(b) of the Help America Vote Act (HAVA), Public Law 107-252, the U.S. Election Assistance Commission (EAC) hereby causes to be published in the Federal Register material changes to the HAVA State plans previously submitted by Maryland and Puerto Rico.

DATES: This notice is effective upon publication in the Federal Register.

FOR FURTHER INFORMATION CONTACT: Bryan Whitener, Telephone 202-566-3100 or 1-866-747-1471 (toll-free).

Submit Comments: Any comments regarding the plans published herewith should be made in writing to the chief election official of the individual State at the address listed below.

SUPPLEMENTARY INFORMATION: On March 24, 2004, the U.S. Election Assistance Commission published in the Federal Register the original HAVA State plans filed by the fifty States, the District of Columbia and the Territories of American Samoa, Guam, Puerto Rico, and the U.S. Virgin Islands. 69 FR 14002. HAVA anticipated that States, Territories and the District of Columbia would change or update their plans from time to time pursuant to HAVA section 254 (a)(11) through (13). HAVA sections 254(a)(11)(A) and 255 require EAC to publish such updates. EAC published the first update to Puerto Rico's State plan in the Federal Register on January 24, 2005. 70 FR 3464. EAC has not previously published an update to the Maryland State plan.

The submissions from Maryland and Puerto Rico address material changes in the State budgets and State plan committees of their previously submitted State plans and, in accordance with HAVA section 254(a)(12), provide information on how the States succeeded in carrying out their previous State plans. The current submission from Maryland addresses a material change to its budget to account for funds that were appropriated instead of funds that were authorized. The amendment also includes an estimate of how much Maryland's recently implemented statewide HAVA compliant voting system will cost to maintain through 2014. The current submission from Puerto Rico addresses material changes to the budget and timelines for the procurement and testing of new voting systems. The revised plan addresses the differences between the funding that was authorized for Puerto Rico and used for initial planning and the amount that was actually received. Puerto Rico also emphasizes its work in meeting accessibility requirements for polling places and voting systems.

Upon the expiration of thirty days from February 27, 2006, Maryland and Puerto Rico will be eligible to implement the material changes addressed in the plans that are published herein, in accordance with HAVA section 254(a)(11)(C).

EAC notes that the plans published herein have already met the notice and comment requirements of HAVA section 256, as required by HAVA section 254(a)(11)(B). EAC wishes to acknowledge the effort that went into revising these State plans and encourages further public comment, in writing, to the State election officials listed below.

Chief State Election Officials

Maryland

Ms. Linda Lamone, Administrator, State Board of Elections, 151 West Street, Suite 200, Annapolis, MD 21401-0486, Phone: (800) 222-8683, Fax: (410) 974-2019, E-mail: ntrella@elections.state.md.us.

Puerto Rico

Lcdo. Aurelio Gracia Morales, Presidente, State Elections Commission, P.O. Box 195552, San Juan, PR 00919-5552, Phone: 787-777-8675, Fax: 787-296-0173, E-mail: comentarios@cee.gobierno.pr.

Thank you for your interest in improving the voting process in America.

Dated: February 17, 2006.
Paul S. DeGregorio,
Chairman, U.S. Election Assistance Commission.

BILLING CODE 6820-KF-P

[FR Doc. 06-1707 Filed 2-24-06; 8:45 am]

BILLING CODE 6820-KF-C